DEPARTMENT OF THE INTERIOR

Fish and Wildlife Service

[FWS-R6-R-2010-N152; 60138-1265-6CCP-S3]

National Elk Refuge, Jackson, WY; Comprehensive Conservation Plan and Environmental Assessment

AGENCY: Fish and Wildlife Service, Interior.

ACTION: Notice of intent; request for comments.

SUMMARY: We, the U.S. Fish and Wildlife Service (Service), intend to prepare a comprehensive conservation plan (CCP) and environmental assessment (EA) for the National Elk Refuge in Jackson, Wyoming. We provide this notice in compliance with our CCP policy to advise other Federal and State agencies, Tribes, and the public of our intentions, and to obtain suggestions and information on the scope of issues to consider in the planning process.

DATES: To ensure consideration, please send your written comments by November 22, 2010. Submit comments by one of the methods under ADDRESSES. We will announce opportunities for public input in local news media throughout the CCP process.

ADDRESSES: Send your comments or requests for more information by any of the following methods.

E-mail: nationalelkrefuge@fws.gov. Include “National Elk Refuge CCP” in the subject line of the message.

Fax: Attn: Toni Griffin, Planning Team Leader, 303-236-4792.

U.S. Mail: Toni Griffin, Planning Team Leader, Division of Refuge Planning, 134 Union Blvd., Suite 300, Lakewood, CO 80228.

In-Person Drop-off: You may drop off comments during regular business hours at the above address, or at the National Elk Refuge office located at 675 E. Broadway, Jackson, WY 83001.

FOR FURTHER INFORMATION CONTACT: Toni Griffin, 303-236-4378 (phone); or David C. Lucas, Chief, Division of Planning, P.O. Box 25486, Denver Federal Center, Denver, CO 80228.

SUPPLEMENTARY INFORMATION:

Introduction

With this notice, we initiate our process for developing a CCP for the National Elk Refuge in Jackson, WY. This notice complies with our CCP policy to (1) advise other Federal and State agencies, Tribes, and the public of our intention to conduct detailed planning on this refuge and (2) to obtain suggestions and information on the scope of issues to consider in the environmental document and during development of the CCP.

Background

The CCP Process

The National Wildlife Refuge System Administration Act of 1966 as amended (16 U.S.C. 668dd-668ee) (Administration Act) by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public including, where appropriate, opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of the National Elk Refuge.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

National Elk Refuge

The National Elk Refuge was established in 1912 as a “winter game (elk) reserve” (37 Stat. 293, 16 USC 673), and the following year Congress designated the area as “a winter elk refuge” (37 Stat. 847). In 1921 all lands included in the refuge, or that might be added in the future, were reserved and set apart as “refuges and breeding grounds for birds” [Executive Order (EO) 3596], which was affirmed in 1922 (EO 3741). In 1927 the refuge was expanded to provide “for the grazing of, and as a refuge for, American elk and other big game animals” (44 Stat. 1246, 16 USC 673a). These purposes apply to all or most of the lands now within the refuge. Several parcels have been added to the refuge specifically for the conservation of fish and wildlife (Fish and Wildlife Act of 1956), the development of wildlife-oriented recreational opportunities (Refuge Recreation Act of 1962, 16 U.S.C. 460k-l), the protection of natural resources, and the conservation of threatened and endangered species (Endangered Species Act of 1973).

The refuge is located in Teton County, Wyoming. A wide variety of habitats are found on the National Elk Refuge, including grassy meadows, marshes, timbered areas, sagebrush, and rocky outcroppings. Between November and May, the wildlife concentrations and diversity provide spectacular wildlife viewing opportunities.

The refuge's nearly 25,000 acres provide a winter home for one of the largest wintering concentrations of elk. In addition to the large elk herds, a free-roaming bison herd winters at the refuge.

A variety of waterfowl, including trumpeter swans, can be seen on nearly 1,600 acres of open water and marshlands. At least 47 mammal species and nearly 175 species of birds have been observed on the refuge. Some notable species include moose, bighorn sheep, pronghorn, gray wolves, mountain lions, bald eagles, and peregrine falcons.

Scoping: Preliminary Issues, Concerns, and Opportunities

The CCP will not address bison and elk management on the refuge. This is because a Bison and Elk Management Plan completed in 2007 provides goals, objectives, and strategies for managing bison and elk on the National Elk Refuge and in Grand Teton National Park for the next 15 years. The CCP will address all other aspects of refuge management, including migratory birds, threatened and endangered species, visitor use, and cultural resources. We have identified preliminary issues, concerns, and opportunities that we may address in the CCP. During public scoping, we may identify additional issues.

We request input as to which issues affecting refuge management or public use should be addressed during the planning process. We are especially interested in receiving public input in the following areas:

(a) What suggestions do you have for managing migratory birds on the refuge?

(b) What concerns do you have regarding visitor services and public use on the refuge?

(c) What changes, if any, would you like to see in the management of this refuge?

We provide the above questions for your optional use. We have no requirement that you provide information; however, any comments the planning team receives will be used as part of the planning process.

Public Meetings

We will give the public an opportunity to provide input at a public meeting. You can obtain the schedule from the planning team leader or project leader (see ADDRESSES). We will announce opportunities for public input in local news media throughout the CCP process. You may also send comments anytime during the planning process by mail, e-mail, or fax (see ADDRESSES). There will be additional opportunities to provide public input once we have prepared a draft CCP.

Public Availability of Comments

Any comments we receive will become part of the administrative record and may be available to the public. Before submitting comments that include your address, phone number, e-mail address, or other personal identifying information, you should be aware that your entire comment, including your personal identifying information, may be made publicly available at any time. While you may ask us in your comment to withhold your personal identifying information from public review, we cannot guarantee that we will be able to do so.

Dated: August 6, 2010.
Noreen E. Walsh,
Deputy Regional Director.

[FR Doc. 2010-26699 Filed 10-21-10; 8:45 am]

BILLING CODE 4310-55-P